DEPARTMENT OF THE INTERIOR

National Park Service

[NPS-WASO-NAGPRA-NPS0031685; PPWOCRADN0-PCU00RP14.R50000]

Notice of Intent To Repatriate Cultural Items: California State University, Sacramento, Sacramento, CA

AGENCY: National Park Service, Interior.

ACTION: Notice.

SUMMARY: The California State University, Sacramento, in consultation with the appropriate Indian Tribes or Native Hawaiian organizations, has determined that the cultural items listed in this notice meet the definition of unassociated funerary objects. Lineal descendants or representatives of any Indian Tribe or Native Hawaiian organization not identified in this notice that wish to claim these cultural items should submit a written request to the California State University, Sacramento. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the California State University, Sacramento at the address in this notice by May 24, 2021.

ADDRESSES: Dr. Dianne Hyson, Dean of the College of Social Sciences and Interdisciplinary Studies, California State University, Sacramento, 6000 J Street, Sacramento, CA 95819-6109, telephone (916) 278-6504, email dhyson@csus.edu.

SUPPLEMENTARY INFORMATION: Notice is here given in accordance with the Native American Graves Protection and Repatriation Act (NAGPRA), 25 U.S.C. 3005, of the intent to repatriate cultural items under the control of the California State University, Sacramento, CA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1935 or 1936, two cultural items were removed from Happy Canyon in Santa Barbara County, CA, by Anthony Zallio, a private collector associated with Sacramento City College. While the exact site location is unknown, Zallio was with a party of professional and amateur archeologists visiting sites in the vicinity of Casmalia and Happy Canyon, which is located approximately four to ten miles east and northeast of Santa Ynez. In 1951, Zallio's estate posthumously donated the collection to the Department of Anthropology at Sacramento State College, California (now California State University, Sacramento). The two unassociated funerary objects are one modified bone tube with adhered asphaltum and inlaid Olivella tiny saucer (Type G1) shell beads and one ochre sample.

Happy Canyon is within the aboriginal territory of the Ynezeño Chumash. The objects were designated as unassociated funerary objects because associated documentation indicates that they were found in association with a burial and the location of the human remains is unknown. Recent archeological research suggests that the Chumash have been in the region since at least the early Holocene.

Determinations Made by the California State University, Sacramento

Officials of the California State University, Sacramento have determined that:

• Pursuant to 25 U.S.C. 3001(3)(B), the two cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Santa Ynez Band of Chumash Mission Indians of the Santa Ynez Reservation, California.

Additional Requestors and Disposition

Lineal descendants or representatives of any Indian Tribe or Native Hawaiian organization not identified in this notice that wish to claim these cultural items should submit a written request with information in support of the claim to Dr. Dianne Hyson, Dean of the College of Social Sciences and Interdisciplinary Studies, California State University, Sacramento, 6000 J Street, Sacramento, CA 95819-6109, telephone (916) 278-6504, email dhyson@csus.edu, by May 24, 2021. After that date, if no additional claimants have come forward, transfer of control of the unassociated funerary objects to the Santa Ynez Band of Chumash Mission Indians of the Santa Ynez Reservation, California and the joint requestors—the Barbareno Chumash Council, the Coastal Band of Chumash Indians, and the San Luis Obispo County Chumash, which are non-federally recognized Indian groups—may proceed.

The California State University, Sacramento is responsible for notifying the Santa Ynez Band of Chumash Mission Indians of the Santa Ynez Reservation, California and the joint requestors—the Barbareno Chumash Council, the Coastal Band of Chumash Indians, and the San Luis Obispo County Chumash, which are non-federally recognized Indian groups—that this notice has been published.

Dated: April 15, 2021.
Melanie O'Brien,
Manager, National NAGPRA Program.

[FR Doc. 2021-08398 Filed 4-21-21; 8:45 am]

BILLING CODE 4312-52-P